DEPARTMENT OF TRANSPORTATION

Federal Railroad Administration

[Docket Number FRA-2004-19999]

Petition for Waiver of Compliance

In accordance with Part 211 of Title 49 Code of Federal Regulations (CFR), this document provides the public notice that by a document received on January 18, 2013, the Fayette Central Railroad (FCRV) has petitioned the Federal Railroad Administration (FRA) for a an extension of a waiver of compliance in Docket Number FRA-2004-19999. FCRV seeks to extend a waiver of compliance from certain provisions of the Federal railroad safety regulations contained at Title 49 Code of Federal Regulations (CFR) Part 223, Safety Glazing Standards-Locomotives, Passenger Cars and Cabooses, which requires certified glazing in locomotive and caboose windows. FRA issued the initial waiver that granted FCRV relief on September 6, 2005, and FRA extended the waiver on June 12, 2008. The existing waiver will expire on June 11, 2013.

Specifically, FCRV seeks to extend a waiver of compliance for two cabooses, Car Numbers PC 18086 (built in 1946) and P&LE 504 (built in 1956), as well as one locomotive, Locomotive Number 9061 (built in 1948).

FCRV states that it operates in a rural area and does not operate through any intercity areas. Additionally, FCRV's operations are temporally separated from freight operations. There is no location or time where another train will be passing a FCRV train; therefore, there is no danger of a rock or debris being thrown up from a passing train. The maximum speed on the track over which FCRV operates is 15 mph. Finally, there have never been any incidents of people shooting at FCRV's trains.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 24, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 3, 2013.
Robert C. Lauby,
Deputy Associate Administrator for Regulatory and Legislative Operations.

[FR Doc. 2013-08247 Filed 4-8-13; 8:45 am]

BILLING CODE 4910-06-P